DEPARTMENT OF TRANSPORTATION

Federal Aviation Administration

14 CFR Part 97

[Docket No. 31215; Amdt. No. 3819]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective October 22, 2018. The compliance date for each SIAP, associated Takeoff Minimums, and ODP is specified in the amendatory provisions.

The incorporation by reference of certain publications listed in the regulations is approved by the Director of the Federal Register as of October 22, 2018.

ADDRESSES: Availability of matters incorporated by reference in the amendment is as follows:

For Examination

1. U.S. Department of Transportation, Docket Ops-M30, 1200 New Jersey Avenue SE, West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd. Oklahoma City, OK. 73169 (Mail Address: P.O. Box 25082, Oklahoma City, OK 73125) Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979) ; and (3) does not warrant preparation of a regulatory evaluation as the anticipated impact is so minimal. For the same reason, the FAA certifies that this amendment will not have a significant economic impact on a substantial number of small entities under the criteria of the Regulatory Flexibility Act.

List of Subjects in 14 CFR part 97

Air traffic control, Airports, Incorporation by reference, Navigation (air).

Issued in Washington, DC on September 21, 2018.
Rick Domingo,
Executive Director, Flight Standards Service.

Adoption Of The Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 8 November 2018

Fairbanks, AK, Fairbanks Intl, RNAV (GPS) RWY 2R, Amdt 1A

Fairbanks, AK, Fairbanks Intl, RNAV (GPS) RWY 20L, Amdt 1A

Fairbanks, AK, Fairbanks Intl, RNAV (GPS) Y RWY 2L, Amdt 1B

Fairbanks, AK, Fairbanks Intl, RNAV (GPS) Y RWY 20R, Amdt 1C

Tanana, AK, Ralph M Calhoun Memorial, Takeoff Minimums and Obstacle DP, Amdt 1A

Wales, AK, Wales, RNAV (GPS) RWY 18, Amdt 1

Wales, AK, Wales, RNAV (GPS) RWY 36, Amdt 1

Wales, AK, Wales, Takeoff Minimums and Obstacle DP, Amdt 1

Bentonville, AR, Bentonville Muni/Louise M Thaden Field, Takeoff Minimums and Obstacle DP, Amdt 2

Pueblo, CO, Pueblo Memorial, ILS OR LOC RWY 8R, Amdt 1A

Melbourne, FL, Melbourne Intl, VOR RWY 27L, Orig

Pensacola, FL, Pensacola Intl, ILS OR LOC RWY 17, Amdt 14C

Pensacola, FL, Pensacola Intl, LOC RWY 26, Amdt 1B

Pensacola, FL, Pensacola Intl, NDB RWY 35, Orig

Pensacola, FL, Pensacola Intl, RNAV (GPS) RWY 8, Amdt 2D

Pensacola, FL, Pensacola Intl, RNAV (GPS) RWY 17, Amdt 2E

Pensacola, FL, Pensacola Intl, RNAV (GPS) RWY 26, Amdt 2D

Pensacola, FL, Pensacola Intl, RNAV (GPS) RWY 35, Amdt 2D

St Petersburg, FL, Albert Whitted, RNAV (GPS) RWY 36, Amdt 1A

St Petersburg, FL, Albert Whitted, VOR RWY 18, Amdt 9C

Atlanta, GA, Atlanta Rgnl Falcon Field, RNAV (GPS) RWY 13, Amdt 3

Atlanta, GA, Atlanta Rgnl Falcon Field, RNAV (GPS) RWY 31, Amdt 3

Savannah, GA, Savannah/Hilton Head Intl, ILS OR LOC RWY 1, Amdt 8B

Savannah, GA, Savannah/Hilton Head Intl, ILS OR LOC RWY 10, ILS RWY 10 SA CAT I, ILS RWY 10 SA CAT II, Amdt 29

Fairfield, IL, Fairfield Muni, RNAV (GPS) RWY 9, Amdt 1

Monticello, IL, Piatt County, Takeoff Minimums and Obstacle DP, Orig, CANCELED

Monticello, IL, Piatt County, VOR OR GPS-A, Amdt 1A, CANCELED

South Bend, IN, South Bend Intl, RNAV (GPS) RWY 9R, Amdt 1

Terre Haute, IN, Sky King, RNAV (GPS)-A, Amdt 1

Terre Haute, IN, Sky King, Takeoff Minimums and Obstacle DP, Amdt 5

Terre Haute, IN, Sky King, VOR-A, Amdt 7

Lawrence, MA, Lawrence Muni, VOR RWY 23, Amdt 12A

Waterville, ME, Waterville Robert Lafleur, Takeoff Minimums and Obstacle DP, Amdt 1

Berrien Springs, MI, Andrews University Airpark, Takeoff Minimums and Obstacle DP, Amdt 1

Madison, MN, Lac Qui Parle County, NDB RWY 32, Amdt 4B, CANCELED

Wheaton, MN, Wheaton Muni, Takeoff Minimums and Obstacle DP, Amdt 2

Sikeston, MO, Sikeston Memorial Muni, Takeoff Minimums and Obstacle DP, Amdt 1A

Corinth, MS, Roscoe Turner, ILS OR LOC RWY 18, Amdt 3A

Vicksburg, MS, Vicksburg Muni, Takeoff Minimums and Obstacle DP, Amdt 3

Kenansville, NC, Duplin Co, RNAV (GPS) RWY 5, Amdt 1

Kenansville, NC, Duplin Co, RNAV (GPS) RWY 23, Amdt 1

Kenansville, NC, Duplin Co, Takeoff Minimums and Obstacle DP, Amdt 1

Bismarck, ND, Bismarck Muni, ILS OR LOC RWY 13, Amdt 4

Bismarck, ND, Bismarck Muni, RNAV (GPS) RWY 21, Amdt 2

Alliance, NE, Alliance Muni, ILS OR LOC RWY 30, Orig-A

Alliance, NE, Alliance Muni, RNAV (GPS) RWY 8, Orig-A

Alliance, NE, Alliance Muni, RNAV (GPS) RWY 12, Orig-A

Alliance, NE, Alliance Muni, RNAV (GPS) RWY 26, Orig-A

Alliance, NE, Alliance Muni, RNAV (GPS) RWY 30, Amdt 1A

Alliance, NE, Alliance Muni, VOR RWY 12, Amdt 3B

Alliance, NE, Alliance Muni, VOR RWY 30, Amdt 3A

Neligh, NE, Antelope County, Takeoff Minimums and Obstacle DP, Amdt 1

O'Neill, NE, The O'Neill Muni-John L Baker Field, Takeoff Minimums and Obstacle DP, Amdt 1

Caldwell, NJ, Essex County, RNAV (GPS) RWY 4, Orig-C

Caldwell, NJ, Essex County, RNAV (GPS) RWY 10, Amdt 1

Caldwell, NJ, Essex County, Takeoff Minimums and Obstacle DP, Amdt 2A

Mount Holly, NJ, South Jersey Rgnl, RNAV (GPS) RWY 26, Amdt 1C

Newark, NJ, Newark Liberty Intl, GLS RWY 4L, Amdt 1A

Newark, NJ, Newark Liberty Intl, GLS RWY 4R, Amdt 1A

Newark, NJ, Newark Liberty Intl, GLS RWY 22R, Amdt 1A

Newark, NJ, Newark Liberty Intl, VOR RWY 11, Amdt 2F

New York, NY, John F Kennedy Intl, ILS OR LOC RWY 13L, ILS RWY 13L CAT II, Amdt 18B

Skaneateles, NY, Skaneateles Aero Drome, Takeoff Minimums and Obstacle DP, Amdt 1

Freeport, PA, McVille, RNAV (GPS) RWY 14, Orig

Freeport, PA, McVille, RNAV (GPS) RWY 32, Orig

Freeport, PA, McVille, Takeoff Minimums and Obstacle DP, Orig

Pageland, SC, Pageland, NDB RWY 24, Amdt 1, CANCELED

Belle Fourche, SD, Belle Fourche Muni, RNAV (GPS) RWY 32, Amdt 2

Mitchell, SD, Mitchell Muni, ILS OR LOC RWY 31, Orig-C

Spearfish, SD, Black Hills-Clyde Ice Field, Takeoff Minimums and Obstacle DP, Amdt 2

Jacksboro, TN, Colonel Tommy C Stiner Airfield, RNAV (GPS) RWY 23, Amdt 1C

Jacksboro, TN, Colonel Tommy C Stiner Airfield, Takeoff Minimums and Obstacle DP, Amdt 2A

Fort Worth, TX, Fort Worth Meacham Intl, Takeoff Minimums and Obstacle DP, Amdt 8

Killeen, TX, Skylark Field, VOR-A, Amdt 4A

Washington Island, WI, Washington Island, COPTER RNAV (GPS) 029, Orig

Washington Island, WI, Washington Island, Takeoff Minimums and Obstacle DP, Orig

RESCINDED: On September 11, 2018 (83 FR 45822), the FAA published an Amendment in Docket No. 31211, Amdt No. 3815, to Part 97 of the Federal Aviation Regulations under section 97.25, 97.33, and 97.37. The following entries for Bay Minette, AL, Oneonta, AL, and for Minocqua-Woodruff, WI, effective November 8, 2018, are hereby rescinded in their entirety:

Bay Minette, AL, Bay Minette Muni, RNAV (GPS) RWY 8, Amdt 1B

Oneonta, AL, Robbins Field, RNAV (GPS) RWY 6, Orig-C

Oneonta, AL, Robbins Field, RNAV (GPS) RWY 24, Orig-A

Oneonta, AL, Robbins Field, Takeoff Minimums and Obstacle DP, Orig-B

Minocqua-Woodruff, WI, Lakeland/Noble F. Lee Memorial Field, LOC RWY 36, Amdt 1A, CANCELED

[FR Doc. 2018-22274 Filed 10-19-18; 8:45 am]

BILLING CODE 4910-13-P